DEPARTMENT OF HEALTH AND HUMAN SERVICES

Administration for Children and Families

Agency Recordkeeping/Reporting Requirements Under Emergency Review by the Office of Management and Budget (OMB)

Title: Evaluation of Adolescent Pregnancy Prevention Approaches: Baseline Data Collection.

OMB No.: 0970-0360.

Description: The Office of Adolescent Health (OAH), Office of the Assistant Secretary for Health (OASH), U.S. Department of Health and Human Services (HHS), is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

The Evaluation of Adolescent Pregnancy Prevention Approaches (PPA) is one of these efforts. PPA is a random assignment evaluation which will expand available evidence on effective ways to reduce teen pregnancy. The evaluation will document and test a range of pregnancy prevention approaches in up to eight program sites. The findings from the evaluation will be of interest to the general public, to policy-makers, and to organizations interested in teen pregnancy prevention.

OAH and ACF are proposing baseline data collection activity as part of the PPA evaluation. Baseline data collection instruments were already approved on July 26, 2010. The project has worked in recent months to secure grantees as evaluation sites, and as part of this effort the project has undertaken making revisions to the baseline instrument with each site. These revisions were undertaken because each site has unique features (e.g. target population; curriculum; objectives) and the baseline instruments were tailored to take these features into account. OAH and ACF are now requesting emergency clearance to collect data using site-specific instruments.

Respondents will be asked to answer carefully selected questions about demographics and risk and protective factors related to teen pregnancy. Information from this data collection will be used to perform meaningful analysis to determine significant program effects.

Respondents: The survey data will be collected through private, self-administered questionnaires completed by study participants, i.e. adolescents assigned to a select school or community teen pregnancy prevention program or a control group. Surveys will be distributed and collected by trained professional staff.

Annual Burden Estimates
Site/program (and name of baseline instrument) | Annualized no. of respondents | No. of responses per respondent | Average burden hours per response | Total burden hours (annual)
Children's Hospital of Los Angeles/Project AIM | 467 | 1 | .7 | 327
Oklahoma Institute of Child Advocacy/Power Through Choices | 360 | 1 | .6 | 216
Engender Health/Gender Matters | 375 | 1 | .6 | 225
Ohio Health/T.O.P.P. | 200 | 1 | .7 | 140
Live the Life Ministries/WAIT Training | 533 | 1 | .7 | 373
Princeton Center for Leadership Training (PCLT)/TeenPEP | 533 | 1 | .6 | 320
Total | 2468 |  |  | 1601

Estimated Total Annual Burden Hours: 1601.

Additional Information:

ACF is requesting that OMB grant a 180 day approval for this information collection under procedures for emergency processing by July 1, 2011. A copy of this information collection, with applicable supporting documentation, may be obtained by e-mailing OPREinfocollection@acf.hhs.gov.

Comments and questions about the information collection described above should be directed to the Office of Information and Regulatory Affairs, Attn: OMB Desk Officer for ACF, Office of Management and Budget, Paperwork Reduction Project, 725 17th Street NW., Washington, DC 20503, Fax (202) 395-6974.

Robert Sargis,
Reports Clearance Officer.

[FR Doc. 2011-16290 Filed 6-28-11; 8:45 am]

BILLING CODE 4150-30-P